DEPARTMENT OF COMMERCE

International Trade Administration

Princeton University

Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 09-013. Applicant: Princeton University, Princeton, NJ 08544. Instrument: Electron Beam Evaporator. Manufacturer: Plassys, France. Intended Use: See notice at 74 FR 20459, May 4, 2009. Reasons: This instrument can make low-defect aluminum Josephson junctions, a necessary component of all quantum bits. This evaporator is unique in that it offers full state rotation, in-situ angle control for bilayer Josephson junction fabrication and controlled oxidation. Stage rotation is necessary to fabricated Josephson junctions in a single deposition process, which is essential in fabricating devises with long coherence.

Dated: June 1, 2009.
Christopher Cassel,
Acting Director Subsidies Enforcement Office Import Administration.

[FR Doc. E9-13194 Filed 6-4-09; 8:45 am]

BILLING CODE 3510-DS-S